DEPARTMENT OF EDUCATION

National Assessment Governing Board; Meeting

AGENCY: National Assessment Governing Board; Education.

ACTION: Notice of open meeting and closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e., interpreting services, assistive listening devices, materials in alternative format) should notify Munira Mwalimu at 202-357-6938 or at Munira.Mwalimu@ed.gov no later than November 5, 2004. We will attempt to meet requests after this date, but cannot guarantee availability of the requested accommodation. The meeting site is accessible to individuals with disabilities.

DATES: November 18-November 20, 2004.

Times

November 18

Committee Meetings

Assessment Development Committee: Closed session—12 p.m. to 2:30 p.m.;

Reporting and Dissemination Committee: Open session—12 p.m. to 2:30 p.m.;

Ad Hoc Committee on NAEP 12th Grade Participation: Open session—2:30 p.m. to 4 p.m.;

Executive Committee: Open session—4:30 p.m. to 5 p.m.; Closed session 5 p.m. to 6 p.m.

November 19

Full Board: Open session—8:30 a.m. to 4:15 p.m.

Committee Meetings

Assessment Development Committee: Open session—10 a.m. to 12 p.m.;

Committee on Standards, Design, and Methodology: Open session—10 a.m. to 12 p.m.;

Reporting and Dissemination Committee: Open session—10 a.m. to 12 p.m.;

November 20

Full Board: Open session—9 a.m. to 12 p.m.

Location: Park Hyatt Washington, 1201 24th Street, NW., Washington, DC 20037.

FOR FURTHER INFORMATION CONTACT: Munira Mwalimu, Operations Officer, National Assessment Governing Board, 800 North Capitol Street, NW., Suite 825, Washington, DC 20002-4233, telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

The Assessment Development Committee will meet in closed session on November 18 from 12 p.m. to 2:30 p.m. to review secure test items for the National Assessment of Educational Progress (NAEP) 2009 Reading Assessment. The meeting must be conducted in closed session as disclosure of proposed test items from the NAEP assessments would significantly impede implementation of the NAEP program, and is therefore protected by exemption 9(B) of section 552b(c) of Title 5 U.S.C.

On November 18, the Reporting and Dissemination Committee will meet in open session from 12 p.m. to 2:30 p.m., and the Ad Hoc Committee on NAEP 12th Grade Participation and Motivation will meet in open session from 2:30 p.m. to 4 p.m. The Executive Committee will meet in open session on November 18 from 4:30 p.m. to 5 p.m. The committee will then meet in closed session from 5 p.m. to 6 p.m. to discuss independent government cost estimates for contracts related to the National Assessment of Educational Progress (NAEP). This part of the meeting must be conducted in closed session because public disclosure of this information would likely have an adverse financial effect on the NAEP program and will provide an advantage to potential bidders attending the meeting. The discussion of this information would be likely to significantly impede implementation of a proposed agency action if conducted in open session. Such matters are protected by exemption 9(B) of section 552b(c) of Title 5 U.S.C.

On November 19, the full Board will meet in open session from 8:30 am. to 4:15 p.m. The Board will approve the agenda and the Chairman will introduce new Board members, who will then be administered the Oath of Office. The Board will then hear the Executive Director's report and receive an update on the work of the National Center for Education Statistics (NCES) from the Commissioner of NCES, Robert Lerner.

From 10 am. to 12 p.m. on November 19, the Board's standing committees—the Assessment Development Committee; the Committee on Standards, Design, and Methodology; and the Reporting and Dissemination Committees—will meet in open session.

From 12 p.m. to 2 p.m., Board members will receive a briefing from State NAEP Coordinators on their NAEP roles and on the use of NAEP data. This will be followed by Board discussion on NAEP Reporting Guidelines led by the Chair of the Reporting and Dissemination Committee, John Stevens, after which the November 19 session of the Board meeting will adjourn.

On November 20, the full Board will meet in open session from 9 a.m. to 12 p.m. At 9 a.m., the Board will discuss NAEP 12th Grade issues, led by Vice Chair, Sheila Ford. Board actions on policies and Committee reports are scheduled to take place between 10:45 a.m. and 12 p.m., upon which the November 20, 2004 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. eastern standard time.

Dated: October 28, 2004.
Sharif Shakrani,
Deputy Executive Director, National Assessment Governing Board

[FR Doc. 04-24379 Filed 11-1-04; 8:45 am]

BILLING CODE 4000-01-M